NATIONAL SCIENCE FOUNDATION

Business and Operations Advisory Committee: Notice of Meeting

In accordance with Federal Advisory Committee Act (Pub. L. 92-463, as amended), the National Science Foundation announces the following meeting:

Name: Business and Operations Advisory Committee (9556).

Date/Time: June 15, 2044; 1 p.m. to 5 p.m. (E.S.T.).

Place: Teleconference. Please contact Joan Miller (below) for a dial-in number National Science Foundation, 4201 Wilson Boulevard, Room 525-II, Arlington, VA.

Type of Meeting: Open.

Contact Person: Joan Miller, National Science Foundation, 4201 Wilson Boulevard, Arlington, VA 22230 (703) 292-8200.

Purpose of Meeting: To review the NSF assessment of activities under the agency's Organizational Excellence strategic goal.

Agenda: June 15, 2004. Discussion of NSF's Organizational Excellence strategic goal.

Dated: March 21, 2004.
Susanne Bolton,
Committee Management Officer.

[FR Doc. 04-11888 Filed 5-25-04;8:45am]

BILLING CODE 7555-01-M